DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of subchapter D, chapter 2, title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than May 21, 2001.

Also, interested persons are invited to submit written comments regarding the subject matter of the petitions to the Director of DTAA at the address shown below not later than May 21, 2001.

Petitions filed with the Governors are available for inspection at the Office of the Director, DTAA, ETA, DOL, Room C-5311, 200 Constitution Avenue, NW., Washington, DC 20210.

Signed at Washington, DC this 1st day of May, 2001.
Edward A. Tomchick,
Director, Division of Trade Adjustment Assistance.

Appendix

Subject Firm | Location | Date received at Governor's Office | Petition number | Articles produced
Flexfab (Wkrs) | Hastings, MI | 04/18/2001 | NAFTA-4,769 | silicone hoses.
Alken Ziegler Novi (Co.) | Novi, MI | 04/18/2001 | NAFTA-4,770 | coldformed automotive parts.
Ansell Protective Products (Co.) | Tarboro, NC | 04/18/2001 | NAFTA-4,771 | industrial work gloves.
ECM Motor (IUNAW) | Elkhorn, WI | 04/16/2001 | NAFTA-4,772 | horse power motors.
PSC Scanning (Wkrs) | Eugene, OR | 04/11/2001 | NAFTA-4,773 | bar code scanners.
Commtouch (Co.) | Mountain View, GA | 04/16/2001 | NAFTA-4,774 | software technology & services.
Jonathan Engineered Solutions (UAW) | Fullerton, CA | 04/15/2001 | NAFTA-4,775 | aluminium.
Southern Tee's (Wkrs) | Rockingham, NC | 04/18/2001 | NAFTA-4,776 | t-shirts.
Monona Wire (Wkrs) | Edgewood, IA | 04/19/2001 | NAFTA-4,777 | wiring harness.
Shasta View (Co.) | Malin, OR | 04/09/2001 | NAFTA-4,778 | potatoes.
Mar-Bax Shirt (Co.) | Gassville, AR | 04/16/2001 | NAFTA-4,779 | men's woven dress shirts.
WSW of Sharon of Tennessee (Wkrs) | Sharon, TN | 04/23/2001 | NAFTA-4,780 | children sleepware and playware.
Globe Building Materials (Co.) | Cornell, WI | 04/20/2001 | NAFTA-4,781 | roofing felt.
Tyco Electronics (Co.) | Harrisonburg, VA | 04/23/2001 | NAFTA-4,782 | electronics.
Prairie Wood Products (Wkrs) | Prairie City, OR | 04/23/2001 | NAFTA-4,783 | logs lumber products.
Williamson Dickie (Wkrs) | Eagle Pass, TX | 04/23/2001 | NAFTA-4,784 | work pants and shorts.
Challenge Machinery (The) (PACE) | Grand Haven, MI | 04/20/2001 | NAFTA-4,785 | paper cutters & paper drills.
Rubber Urethanes (Co.) | Grainesville, TX | 04/02/2001 | NAFTA-4,786 | rubber rollers.
BBA Nonwovens (PACE) | Lewisburg, PA | 04/19/2001 | NAFTA-4,787 | thermobond and chembond nonwoven.
J and L Specialty Steel (USWA) | Midland, PA | 04/18/2001 | NAFTA-4,788 | stainless steel strip.
Horace Small Apparel (Co.) | Brownsville, TX | 04/20/2001 | NAFTA-4,789 | garments.
J.C. Viramontes (Co.) | El Paso, TX | 04/20/2001 | NAFTA-4,790 | denim garments.
Southwire (Co.) | Osceola, AR | 04/20/2001 | NAFTA-4,791 | wire and cable products.
Novo Knitting (Co.) | Mansfield, OH | 04/19/2001 | NAFTA-4,792 | knitted outerwear.
Johnstown America (USWA) | Johnstown, PA | 04/24/2001 | NAFTA-4,793 | railroad cars.
Wright's (Co.) | Allentown, PA | 04/24/2001 | NAFTA-4,794 | men's and boy's knitted outerwear.
Prime Cast (USWA) | South Beloit, IL | 04/17/2001 | NAFTA-4,795 | gary iron casting.
Erie Coke Corporation (Wkrs) | Erie, PA | 04/23/2001 | NAFTA-4,796 | steel.
Epic Components (Co.) | New Boston, MI | 04/24/2001 | NAFTA-4,797 | plastic injection molded.
Tyco Electronics (Co.) | Shrewsburg, PA | 04/24/2001 | NAFTA-4,798 | injection molded components.
BF Goodrich Performance Materials (Co.) | Taylors, SC | 04/13/2001 | NAFTA-4,799 | specialty chemicals.
Magnetek (Co.) | Madison, AL | 04/25/2001 | NAFTA-4,800 | electronic ballasts.
Southern Glove—Mountain City Glove (Co.) | Newton, NC | 04/24/2001 | NAFTA-4,801 | gloves.
Pro Manufacturing (Wkrs) | Killeen, TX | 04/29/2001 | NAFTA-4,802 | men's jackets and vests.
Northwest Fourslide (Co.) | Sherwood, OR | 04/24/2001 | NAFTA-4,803 | wire forms and metal stampings.
Dirmingham Steel (USWA) | Joliet, IL | 04/24/2001 | NAFTA-4,804 | steel merchant bar.
Access Electronics (Wkrs) | Gurnee, IL | 04/25/2001 | NAFTA-4,805 | electronics.
Nypro Alabama (Co.) | Dothan, AL | 04/26/2001 | NAFTA-4,806 | lead acid battery.
Eagle Electric (Wkrs) | Long Island, NY | 04/02/2001 | NAFTA-4,807 | electric switches, plugs, sockets etc.
Texas Instruments (Wkrs) | San Jose, CA | 04/10/2001 | NAFTA-4,808 | map products.
TechnoTrim (Co.) | Stockton, CA | 04/17/2001 | NAFTA-4,809 | automobile seat covers.
Lobelson and McCabe (Wkrs) | Chapel Hill, TN | 04/26/2001 | NAFTA-4,810 | dance wear, ballet shoes, tap shoes.
Emerson Power Transmission (Wkrs) | Valparaiso, IN | 04/26/2001 | NAFTA-4,811 | bearing.
Cemex Kosmos Cement (IBM) | Pittsburgh, PA | 04/26/2001 | NAFTA-4,812 | cement.
Tycom (Co.) | Owego, NY | 04/27/2001 | NAFTA-4,813 | precision cutting tools.
Maurice Silvera (Co.) | Lumberton, NC | 04/26/2001 | NAFTA-4,814 | men's golf shirts, kid's sportswear.
Penridge Manufacturing (Co.) | Freeland, PA | 04/27/2001 | NAFTA-4,815 | men's and ladies outerwear.
Lady Hope Dress (UNITE) | Kulpment, PA | 04/27/2001 | NAFTA-4,816 | dresses.
Square D (Co.) | Ashville, NC | 04/30/2001 | NAFTA-4,817 | molds.
McGinley Mills (UNITE) | Easton, PA | 04/26/2001 | NAFTA-4,818 | ribbon goods.
Woodstock Lamp and Shade (UFCW) | Oldforge, PA | 04/30/2001 | NAFTA-4,819 | lamp shades and lampshade frames.
Tridelta Industries (Co.) | Mentor, OH | 04/13/2001 | NAFTA-4,820 | pressure controls.
Nokia Mobile Phones (Wkrs) | Fort Worth, TX | 04/30/2001 | NAFTA-4,821 | cellular phones.
MEI International (USWA) | Duluth, MN | 04/30/2001 | NAFTA-4,822 | consumable wear parts.
Brillcast (Co.) | Grand Rapids, MI | 04/30/2001 | NAFTA-4,823 | functional and decorative parts.
Mother Parker's Tea and Coffee (Wkrs) | Amherst, NY | 04/30/2001 | NAFTA-4,824 | microwave coffee singles.

[FR Doc. 01-11625 Filed 5-8-01; 8:45 am]

BILLING CODE 4510-30-M